DEPARTMENT OF COMMERCE

International Trade Administration

[A-337-806]

Individually Quick Frozen Red Raspberries From Chile: Notice of Partial Rescission of Antidumping Duty Administrative Review

AGENCY: Import Administration, International Trade Administration, Department of Commerce.

ACTION: Notice of partial rescission of first administrative review.

SUMMARY: In response to requests from interested parties, the Department of Commerce is conducting an administrative review of the antidumping duty order on individually quick frozen red raspberries from Chile. This review covers sales of individually quick frozen red raspberries to the United States during the period December 31, 2001 through June 30, 2003. Based on a request for withdrawal of the review with respect to certain companies, we are rescinding, in part, the first administrative review.

EFFECTIVE DATE: January 15, 2004.

FOR FURTHER INFORMATION CONTACT: Cole Kyle, Office 1, AD/CVD Enforcement, Import Administration, International Trade Administration, U.S. Department of Commerce, 14th Street and Constitution Avenue, NW., Washington DC 20230; telephone (202) 482-1503.

SUPPLEMENTARY INFORMATION:

Background

On July 2, 2003, the Department of Commerce (“the Department”) published in the Federal Register a notice of the opportunity to request an administrative review in the above-cited segment of the antidumping duty proceeding (see 68 FR 39511). We received a timely filed request for review of 51 companies from the Pacific Northwest Berry Association, Lynden, Washington, and each of its individual members, Curt Maberry Farm, Enfield Farms, Inc., Maberry Packing, and Rader Farms, Inc. (collectively, “the petitioners”). We also received timely filed requests for review from Fruticola Olmue S.A. (“Olmue”), Santiago Comercio Exterior Exportaciones Ltda. (“SANCO”), and Vital Berry Marketing S.A. (“Vital Berry”).¹ On August 22, 2003, we initiated an administrative review of the 51 companies (see 68 FR 50750).

¹ These three companies were included in the petitioners' request for review of 51 companies.

On November 20 and, further, on December 12, 2003, the petitioners requested that the Department extend the deadline for interested parties to withdraw review requests. In accordance with its regulatory discretion in this respect, as detailed at 19 CFR 351.213(d)(1) (2003), the Department granted the petitioners' requests and extended the deadline for interested parties to withdraw their requests for review. See Memorandum to the File dated November 20, 2003, Request for Extension of Deadline for Withdrawing from Review; see also Memorandum to the File dated December 12, 2003, Second Request for Extension of Deadline for Withdrawing from Review.

On January 2, 2004, we received comments from Valles Andinos S.A. (“Valles Andinos”) opposing any potential request by the petitioners that their request for review of that company be withdrawn.

On January 5, 2004, we received a timely filed request from the petitioners withdrawing their request for review for all of the companies for which they had requested an administrative review, except Uren Chile S.A.

Partial Rescission of Antidumping Administrative Review

Because the petitioners were the only party to request an administrative review for all companies except Olmue, SANCO, and Vital Berry, and because they filed their withdrawal request within the deadline established by the Department, we are hereby rescinding the administrative review with respect to the following companies in accordance with 19 CFR 351.213(d)(1):

Agricola Nova Ltda.;

Agrocomercial Las Tinajas Ltda.;

Agroindustria Framberry Ltda.;

Agroindustria Niquen Ltda.;

Agroindustria Sagrada Familia Ltda.;

Agroindustria y Frigorifico M y M Ltda.;

Agroindustrial Frisac Ltda.;

Agroindustrial Frutos del Maipo Ltda.;

Agroindustrial Merco Trading Ltda.;

Agroindustrias San Francisco Ltda.;

Agross S.A.;

Alimentos Prometeo Ltda.;

Alimentos y Frutos S.A.;

Andesur S.A.;

Angloeuro Comercio Exterior S.A.;

Armijo Carrasco, Claudio del Carmen;

Arvalan S.A.;

Bajo Cero S.A.;

Certified Pure Ingredients (Chile) Inc. y Cia. Ltda.;

Chile Andes Foods S.A.;

Comercializadora Agricola Berries & Fruit Ltda;

Comercializadora de Alimentos del Sur Ltda.;

Comercio y Servicios S.A.;

Copefrut S.A.;

C y C Group S.A.;

Exportaciones Meyer S.A.;

Exportadora Pentagro S.A.;

Francisco Nancuvilu Punsin;

Frigorifico Ditzler Ltda.;

Frutas de Guaico S.A.;

Fruticola Viconto S.A.;

Hassler Monckeberg S.A.;

Hortifrut S.A.;

Interagro Comercio Y Ganado S.A.;

Kugar Export Ltda.;

Maria Teresa Ubilla Alarcon;

Multifrigo Valparaiso S.A;

Nevada Export S.A.;

Prima Agrotrading Ltda.;

Procesadora y Exportadora de Frutas y Vegetales;

Rio Teno S.A.;

Sociedad Agricola Valle del Laja Ltda.;

Sociedad Exportaciones Antiquina Ltda.;

Sociedad San Ernesto Ltda.;

Terra Natur S.A.;

Terrazas Export S.A.;

Valles Andinos S.A.

Concerning Valles Andinos' objection to the petitioners' request to withdraw the review with respect to Valles Andinos, we note that Valles Andinos did not itself request an administrative review. Rather, the review was requested solely by the petitioners. Therefore, because the petitioners requested a review of Valles Andinos and subsequently withdrew that request in a timely fashion, we are rescinding the administrative review with respect to Valles Andinos, as indicated above.

The following companies remain respondents in this administrative review: Olmue, SANCO, Vital Berry, and Uren Chile.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(I).

The Department will issue appropriate assessment instructions directly to the CBP within 15 days of publication of this notice.

Cash Deposit Rates

For the companies for which this review is rescinded, the cash deposit rate will continue to be 6.33 percent, the “all others” rate established in the less-than-fair-value investigation. See Notice of Amended Final Determination of Sales at Less Than Fair Value: IQF Red Raspberries From Chile, 67 FR 40270 (June 12, 2002).

These cash deposit requirements shall remain in effect until publication of the final results of the next administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended and 19 CFR 351.213(d)(4).

Dated: January 9, 2004.
James J. Jochum,
Assistant Secretary for Import Administration.

[FR Doc. 04-906 Filed 1-14-04; 8:45 am]

BILLING CODE 3510-DS-P